DEPARTMENT OF HOMELAND SECURITY

U.S. Citizenship and Immigration Services

Agency Information Collection Activities: E-Verify Non-User Survey and Employee-Employer Survey in Arizona; Emergency Submission to the Office of Management and Budget (OMB) for a New Information Collection; Comment Request

ACTION: 14-Day Notice of Information Collection Under Review: E-Verify Non-User Survey and Employee—Employer Survey in Arizona. OMB Control No. 1615-NEW.

The E-Verify Program is a free employment eligibility confirmation system operated jointly by U.S. Citizenship and Immigration Services (USCIS) and the Social Security Administration. The E-Verify Program allows participating employers to electronically confirm the employment eligibility of newly hired employees to help maintain a stable, legal workforce. USCIS plans to conduct two new surveys so that it can gather important information relating to the E-Verify Program.

U.S. Citizenship and Immigration Services has submitted the following emergency information collection, utilizing emergency review procedures, to the Office of Management and Budget (OMB) for review and clearance in accordance with the Paperwork Reduction Act of 1995 (Pub. L. 104-13, 44 U.S.C. 35). The purpose of this notice is to allow 14 days for public comments. Comments are encouraged and will be accepted for 14 days until May 13, 2009. This process is conducted in accordance with 5 CFR 1320.10.

Written comments and/or suggestions regarding the item(s) contained in this notice, especially regarding the estimated public burden and associated response time, should be directed to the Department of Homeland Security (DHS), and to the Office of Information and Regulatory Affairs, Office of Management and Budget (OMB), USCIS Desk Officer. Comments may be submitted to: USCIS, Chief, Regulatory Products Division, Clearance Office, 111 Massachusetts Avenue, Washington, DC 20529-2210. Comments may also be submitted to DHS via facsimile to 202-272-8352 or via e-mail at rfs.regs@dhs.gov, and to the OMB USCIS Desk Officer via facsimile at 202-395-6974 or via e-mail at oira_submission@omb.eop.gov.

When submitting comments by e-mail please make sure to add “E-Verify Survey” in the subject box. Written comments and suggestions from the public and affected agencies should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of This Information Collection

(1) Type of Information Collection: Emergency request for a new information collection.

(2) Title of the Form/Collection: E-Verify Non-User Survey and Employee-Employer Survey in Arizona.

(3) Agency form number, if any, and the applicable component of the Department of Homeland Security sponsoring the collection: No form number. U.S. Citizenship and Immigration Services.

(4) Affected public who will be asked or required to respond, as well as a brief abstract: Primary: Individuals or households. The data collected on these surveys will be used to evaluate the E-Verify Program.

(5) An estimate of the total number of respondents and the amount of time estimated for an average respondent to respond: Web survey of non-users 2,250 respondents × .333 (20 minutes) per response. Arizona interview with employers 100 respondents × 2 hours per response. Arizona interview with employees 450 respondents × 1 hour per response.

(6) An estimate of the total public burden (in hours) associated with the collection: 1,399 annual burden hours.

If you need a copy of the proposed information collection instrument, or need additional information, please visit: http://www.regulations.gov/search/index.jsp.

If additional information is required contact: USCIS, Regulatory Products Division, 111 Massachusetts Avenue, Washington, DC 20529-2210, (202) 272-8377.

Dated: April 27, 2009.
Stephen Tarragon,
Deputy Chief, Regulatory Products Division, U.S. Citizenship and Immigration Services, Department of Homeland Security.

[FR Doc. E9-9915 Filed 4-28-09; 8:45 am]

BILLING CODE 9111-97-P